DEPARTMENT OF ENERGY

Federal Energy Regulatory Commission

[Project No. 2079-069]

Middle Fork American River Project; Notice of Availability of the Draft Environmental Impact Statement for the Middle Fork American River Hydrolectric Project and Intention To Hold Public Meetings

In accordance with the National Environmental Policy Act of 1969 and the Federal Energy Regulatory Commission (Commission or FERC) regulations contained in the Code of Federal Regulations (CFR) (18 CFR part 380 [FERC Order No. 486, 52 FR 47897]), the Office of Energy Projects has reviewed the application for license for the Middle Fork American River Hydroelectric Project (FERC No. 2079), located on the Middle Fork of the American and Rubicon Rivers and Duncan and North and South Fork Long Canyon Creeks in Placer and El Dorado Counties, California, and has prepared a draft environmental impact statement (EIS) for the project. The project occupies 3,268 acres of federal lands administered by the U.S. Department of Agriculture—Forest Service.

The draft EIS contains staff's analysis of the applicant's proposal and the alternatives for relicensing the Middle Fork American River Hydroelectric Project. The draft EIS documents the views of governmental agencies, non-governmental organizations, affected Indian tribes, the public, the license applicant, and Commission staff.

A copy of the draft EIS is available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

You may also register online at http://www.ferc.gov/docs-filing/esubscription.asp to be notified via email of new filings and issuances related to this or other pending projects. For assistance, contact FERC Online Support.

All comments must be filed by Tuesday, October 2, 2012, and should reference Project No. 2079-069. Comments may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support. Although the Commission strongly encourages electronic filing, documents may also be paper-filed. To paper-file, mail an original and eight copies to: Kimberly D. Bose, Secretary, Federal Energy Regulatory Commission, 888 First Street NE., Washington, DC 20426.

Anyone may intervene in this proceeding based on this draft EIS (18 CFR § 380.10). You must file your request to intervene as specified above.¹ You do not need intervenor status to have your comments considered.

¹ Interventions may also be filed electronically via the Internet in lieu of paper. See the previous discussion on filing comments electronically.

Commission staff will hold two public meetings for the purpose of receiving comments on the draft EIS. The daytime meeting will focus on resource agency, Indian tribes, and non-governmental organization comments, while the evening meeting is primarily for receiving input from the public. All interested individuals and entities will be invited to attend one or both of the public meetings. A notice detailing the exact date, time, and location of the public meetings will be forthcoming.

For further information, please contact Carolyn Templeton at (202) 502-8785 or at carolyn.templeton@ferc.gov.

Dated: July 23, 2012.
Kimberly D. Bose,
Secretary.

[FR Doc. 2012-18733 Filed 7-31-12; 8:45 am]

BILLING CODE 6717-01-P